DEPARTMENT OF ENERGY

Federal Energy Regulatory Commission

[Docket No. CP02-14-000]

Columbia Gas Transmission Corporation; Notice of Application

November 1, 2001.

Take notice that on October 25, 2001, Columbia Gas Transmission Corporation (Columbia), 1700 MacCorkle Avenue, SE., Charleston, West Virginia 25314, filed in Docket No. CP02-14-000 pursuant to section 7(b) of the Natural Gas Act (NGA), for permission and approval to abandon by sale to Somerset Gas Transmission Company, L.L.C. (Somerset) natural gas facilities located in Indiana and Clearfield Counties, Pennsylvania, and the service provided through such facilities. In addition, Columbia requests that the Commission find the abandoned facilities to be gathering and therefore exempt from the Commission's jurisdiction, all as more fully set forth in the application which is on file with the Commission and open to public inspection. This filing may also be viewed on the web at http://www.ferc.gov using the “RIMS” link, select “Docket#” and follow the instructions (call 202-208-2222 for assistance).

Columbia states that as a result of Order Nos. 436 and 636, it has experienced a shift from primarily a merchant function to that of transporter. As a result, Columbia states that it is taking steps to redefine its pipeline system. Columbia further states that the facilities to be sold to Somerset are not an integral part of its transmission system and that the long-term needs of its customers are best served through a divestiture of the non-core facilities.

Columbia states that on June 10, 2001, Columbia and Somerset signed a letter of intent and acceptance of proposal to purchase. Columbia further states that such letter provides for, i. e., the sale of two systems to Somerset; the Cookport system which consists of 6.44 miles of 4-, 6-, and 8-nch pipelines with a MAOP and a MOP of 720 psig and the Cookport compressor station which consists of 1-360 hp compressor unit and 2-540 hp compressor units and appurtenances, and the Harmony system which consists of 3.76 miles of 6-inch pipeline with a MAOP and MOP of 720 psig. It is stated that the price of the facilities to be sold to Somerset is $825,630.

Columbia states that it does not propose the abandonment of service to customers other than those currently served directly from the facilities. Also, Columbia states that Somerset has agreed to assume Columbia's service obligations to those customers. Columbia further states that although the Commission requires pipeline companies to make a tariff filing, pursuant to NGA section 4, within 30 days prior to the effective date of the transfer of gathering facilities to another party, Columbia requests waiver of this requirement. Instead, in the interest of efficiency and expediency, Columbia requests that the Commission accept the information provided within the application and in Exhibit Z-2 (List of Contracts to be Terminated) as its notice to terminate service pursuant to section 4 of the NGA.

Any questions regarding the application should be directed to Fredric J. George, Senior Attorney, Columbia Gas Transmission Corporation, P.O. Box 127, Charleston, Vest Virginia 22030-0146 at (304) 357-2359.

There are two ways to become involved in the Commission's review of this project. First, any person wishing to obtain legal status by becoming a party to the proceedings for this project should, on or before November 23, 2001, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-27894 Filed 11-6-01; 8:45 am]

BILLING CODE 6717-01-P